NUCLEAR REGULATORY COMMISSION

10 CFR Parts 26 and 73

[NRC-2014-0118]

RIN 3150-AJ41

Enhanced Security at Fuel Cycle Facilities; Special Nuclear Material Transportation

AGENCY: Nuclear Regulatory Commission.

ACTION: Draft regulatory basis; extension of comment period.

SUMMARY: On June 18, 2014, the U.S. Nuclear Regulatory Commission (NRC) published a request for public comment on a draft regulatory basis to support the potential amendments to revise a number of existing security related regulations relating to physical protection of special nuclear material (SNM) at NRC-licensed facilities and in transit, as well as the fitness-for-duty programs for security officers at certain fuel cycle facilities. The public comment period originally was scheduled to close on August 4, 2014. The NRC has decided to extend the public comment period on this document to allow more time for members of the public to develop and submit their comments.

DATES: The due date for comments requested in the document published on June 18, 2014 (79 FR 34641) is extended. Comments must be filed no later than October 17, 2014. Comments received after this date will be considered if it is practical to do so, but the NRC is able to ensure consideration only for comments received before this date.

ADDRESSES: You may submit comments by any of the following methods (unless this document describes a different method for submitting comments on a specific subject):

• Federal Rulemaking Web site: Go to http://www.regulations.gov and search for Docket ID NRC-2014-0118. Address questions about NRC dockets to Carol Gallagher; telephone: 301-287-3422; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

• Comments that contain proprietary or sensitive information: Please contact the individual listed in the FOR FURTHER INFORMATION CONTACT section of this document to determine the most appropriate method for submitting these comments.

FOR FURTHER INFORMATION CONTACT: Alex Sapountzis, Office of Nuclear Security and Incident Response, U.S. Nuclear Regulatory Commission, Washington, DC 20555-0001; telephone: 301-287-3660, email: Alexander.Sapountzis@nrc.gov.

SUPPLEMENTARY INFORMATION:

I. Obtaining Information and Submitting Comments

A. Obtaining Information

Please refer to Docket ID NRC-2014-0118 when contacting the NRC about the availability of information regarding this document. You may obtain publicly-available information related to this document by any of the following methods:

• Federal Rulemaking Web site: Go to http://www.regulations.gov and search for Docket ID NRC-2014-0118.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory basis document is available in ADAMS under Accession No. ML14113A468.

• NRC's PDR: You may examine and purchase copies of public documents at the NRC's PDR, Room O1-F21, One White Flint North, 11555 Rockville Pike, Rockville, Maryland 20852.

B. Submitting Comments

Please include Docket ID NRC-2014-0118 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

On June 18, 2014 (79 FR 34641), the NRC published a request for public comment on a draft regulatory basis to support the potential amendments to revise a number of existing security related regulations relating to physical protection of SNM at NRC-licensed facilities and in transit, as well as the fitness for duty programs for security officers at certain fuel cycle facilities. The request for public comment asked commenters to consider and address certain questions as they develop and provide their remarks. The public comment period was originally scheduled to close on August 4, 2014. The NRC has decided to extend the public comment period on this document to allow more time for members of the public to develop and submit their comments. The deadline for submitting comments will be extended to October 17, 2014.

Dated at Rockville, Maryland, this 16th day of July 2014.
For the Nuclear Regulatory Commission.
George Wilson,
Acting Director, Division of Intergovernmental Liaison and Rulemaking, Office of Federal and State Materials and Environmental Management Programs.

[FR Doc. 2014-17217 Filed 7-21-14; 8:45 am]

BILLING CODE 7590-01-P